DEPARTMENT OF THE INTERIOR

Bureau of Land Management

[NV-040-1430-EQ; N-36212]

Termination of Airport Lease; NV

AGENCY: Bureau of Land Management, Interior.

ACTION: Notice.

SUMMARY: This action terminates Airport Lease N-36212 in its entirety. The land will be opened to the public land laws generally, including the mining and mineral leasing laws.

EFFECTIVE DATE: November 26, 2001.

ADDRESSES: Written comments should be addressed to: Bureau of Land Management, Gene A. Kolkman, Field Manager, HC 33, Box 33500, Ely, NV 89301-9408.

FOR FURTHER INFORMATION CONTACT: Doris A. Metcalf, Realty Specialist, at the above address or telephone (775) 289-1852.

SUPPLEMENTARY INFORMATION: Pursuant to the authority delegated by appendix 5 of Bureau of Land Management Manual Supplement 1203 dated November 25, 1998, Private Airport Lease N-36212 is hereby terminated in its entirety:

Mount Diablo Meridian, Nevada

T. 4 S., R. 63 E.,

Section 24, E½E½;

T. 4 S., R. 64 E.,

Section 7, Lots 3-4, E½SW¼, SE¼, 18, Lots 1-2, NE¼, E½NW¼, E½SW¼, 19, Lot 1.

The area described contains 197acres in Lincoln County.

The classification made pursuant to the Act of May 24, 1928, segregated the public land from all other forms of appropriation under the public land laws, including location under the United States mining laws and the mineral leasing laws. Airport Lease N-36212 is no longer required and has been closed in accordance with BLM and FAA requirements.

Dated: September 26, 2001.
Gene A. Kolkman,
Field Manager.

[FR Doc. 01-26983 Filed 10-25-01; 8:45 am]

BILLING CODE 4310-HC-P